GENERAL SERVICES ADMINISTRATION

[Notice-CPO-2011-01; Docket 2011-0006; Sequence 15]

Senior Executive Service (SES) Performance Review Board

AGENCY: General Services Administration.

ACTION: Notice.

SUMMARY: Notice is hereby given of the appointment of new members to the General Services Administration SES Performance Review Board. The Performance Review Board assures consistency, stability, and objectivity in the performance appraisal process.

DATES: Effective September 8, 2011.

FOR FURTHER INFORMATION CONTACT: Teresa N. Nasif, Director of Executive Resources, Office of the Chief People Officer, General Services Administration, 1275 First Street, NE., Washington, DC 20002, (202) 501-1207.

SUPPLEMENTARY INFORMATION: Section 4313(c)(1) through (5) of title 5 U.S.C. requires each agency to establish, in accordance with regulations prescribed by the Office of Personnel Management, one or more SES performance review board(s). The board is responsible for making recommendations to the appointing and awarding authority on the performance appraisal ratings and performance awards for the SES employees.

The following have been designated as members of the Performance Review Board of the General Services Administration:

Susan F. Brita, Deputy Administrator—Chair.

Gail T. Lovelace, Assistant Administrator and Chief Leadership Officer.

Anthony E. Costa, Chief People Officer.

David E. Foley, Deputy Commissioner, Public Buildings Service.

Jon A. Jordan, Deputy Commissioner, Federal Acquisition Service.

Sonny Hashmi, Deputy Chief Information Officer.

Linda Chero, Regional Administrator for Federal Acquisition Service, Mid-Atlantic Region.

Mary A. Ruwwe, Regional Commissioner for Public Buildings Service, Heartland Region.

Dated: August 30, 2011.
Martha Johnson,
Administrator.

[FR Doc. 2011-22935 Filed 9-7-11; 8:45 am]

BILLING CODE 6820-34-P